DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
FLORIDA
Pinellas County (FEMA Docket No. D-7598)
Stevenson Creek:
Just upstream of Douglas Avenue | •10
Approximately 350 feet upstream of Southridge Drive | •42
Pinellas County (Unincorporated Areas), City of Clearwater, City of Largo
Spring Branch:
Just upstream of Overbrook Road | •10
Approximately 1,500 feet upstream of Highland Avenue | •28
Pinellas County (Unincorporated Areas), City of Clearwater
Flagler Drive Tributary:
At the confluence with Stevenson Creek | •14
Approximately 1,250 feet upstream of Keene Road | •62
Pinellas County (Unincorporated Areas), City of Clearwater
Jeffords Street Tributary:
At the confluence with Stevenson Creek | •27
Approximately 650 feet upstream of Woodcrest Avenue | •34
Pinellas County (Unincorporated Areas), City of Clearwater
Ponding Area No. 1:
Approximately 250 feet northeast of the intersection of Douglas Avenue and Iva Street in the area of Woodlawn Terrace and Idlewood Drive | •21
City of Clearwater
Crest Lake:
Approximately 500 feet northeast of the intersection of Gulf-to-Bay Boulevard and Glenwood Avenue | •69
City of Clearwater
Ponding Area No. 15:
Approximately 350 feet southwest of the intersection of South Missouri Avenue and Beleair Road and 350 feet northeast of the intersection of Ponce De Leon Boulevard and Greenwood Avenue | •62
Pinellas County (Unincorporated Areas), City of Clearwater
Ponding Area No. 2:
At the intersection of Druid Road and Duncan Avenue | •61
City of Clearwater
Hammond Creek:
At the confluence with Stevenson Creek | •10
Approximately 325 feet upstream of Highland Avenue | •28
Pinellas County (Unincorporated Areas), City of Clearwater
Ponding Area No. 3:
Approximately 150 feet northeast of the intersection of Keene Road and Magnolia Drive | •46
Pinellas County (Unincorporated Areas), City of Clearwater
Ponding Area No. 4:
Approximately 150 feet southwest of the intersection of Keene Road and Magnolia Drive | •43
Pinellas County (Unincorporated Areas)
Ponding Area No. 5:
Approximately 50 feet southeast of the intersection of Keene Road and Magnolia Drive | •42
Pinellas County (Unincorporated Areas)
Lake Rhonda:
Approximately 100 feet southeast of the intersection of Magnolia Drive and Keene Road | •35
Pinellas County (Unincorporated Areas)
Ponding Area No. 6:
Approximately 100 feet southwest of the intersection of Highland Avenue and Belleair Road | •47
Pinellas County (Unincorporated Areas), City of Clearwater
Ponding Area No. 7:
Approximately 500 feet northeast of the intersection of Missouri Avenue and Bellevue Boulevard | •61
City of Clearwater
Ponding Area No. 8:
Approximately 1,000 feet southeast of the intersection of Lakeview Road and Evergreen Drive in the vicinity of Byron Court | •36
City of Clearwater
Clear View Lake:
Approximately 1,000 feet northwest of Sunset Point Road and Keene Road | •57
City of Clearwater
Ponding Area No. 9:
At the intersection of North Greenwood Avenue and Palmetto Street | •20
City of Clearwater
Lake Bellevue Area No. 1:
Approximately 1,000 feet northeast of the intersection of Lakeview Road and Greenwood Avenue | •39
City of Clearwater
Lake Bellevue Area No. 2:
Approximately 500 feet north of the intersection of Lakeview Road and Greenwood Avenue | •40
City of Clearwater
Lake Bellevue Area No. 3:
Approximately 250 feet northwest of the intersection of Lakeview Road and Greenwood Avenue | •41
City of Clearwater
Lake Bellevue Area No. 4:
Approximately 250 feet southwest of the intersection of Lakeview Road and Greenwood Avenue | •42
City of Clearwater
Lake Bellevue Area No. 5:
Approximately 1,500 feet southwest of the intersection of Lakeview Road and Greenwood Avenue | •43
City of Clearwater
Lake Bellevue Area No. 6:
Approximately 600 feet north of the intersection of Woodlawn Avenue and South Myrtle Avenue | •44
City of Clearwater
Lake Bellevue Area No. 7:
Approximately 400 feet north of the intersection of Woodlawn Avenue and South Myrtle Avenue | •45
City of Clearwater
Lake Bellevue Area No. 8:
Approximately 250 feet north of the intersection of Woodlawn Avenue and South Myrtle Avenue | •46
City of Clearwater
Lake Bellevue Area No. 9:
Approximately 100 feet north of the intersection of Woodlawn Avenue and South Myrtle Avenue | •47
City of Clearwater
Lake Bellevue Area No. 10:
Approximately 100 feet south of the intersection of Woodlawn Avenue and South Myrtle Avenue 2 | •50
City of Clearwater
Lake Bellevue Area No. 11:
Approximately 500 feet south of the intersection of Woodlawn Avenue and South Myrtle Avenue 2 | •51
City of Clearwater
Lake Bellevue Area No. 12:
Approximately 100 feet south of the intersection of Howard Street and South Myrtle Avenue 2 | •53
City of Clearwater
Lake Bellevue Area No. 13:
Approximately 250 feet south of the intersection of Howard Street and South Myrtle Avenue 2 | •54
City of Clearwater
Lake Bellevue Area No. 14:
Approximately 350 feet south of the intersection of Howard Street and South Myrtle Avenue 2 | •55
City of Clearwater
Lake Bellevue Area No. 15:
Approximately 250 feet northeast of the intersection of Belleair Road and South Myrtle Avenue 2 | •56
City of Clearwater
Lake Bellevue Area No. 16:
Approximately 500 feet southeast of the intersection of Belleair Road and South Myrtle Avenue 2 | •57
Pinellas County (Unincorporated Areas), City of Clearwater
Hobart Lake:
Approximately 200 feet southwest of the intersection of Casler Avenue and Palmetto Street | •67
City of Clearwater
Ponding Area No. 10:
Approximately 1,000 feet west of Keene Road and 150 feet north of Hobart Lake | •66
City of Clearwater
Lake Lucille:
Approximately 100 feet southeast of the intersection of Sherwood Street and Nelson Avenue | •60
City of Clearwater
Ponding Area No. 11:
Approximately 700 feet west of the intersection of Sherwood Street and Keene Road | •64
City of Clearwater
St. Andrews Lake:
Approximately 1,000 feet northeast of the intersection of Airport Drive and Keene Road | •68
City of Clearwater
Ponding Area No. 13:
At the intersection of North Madison Avenue and Carlton Street | •16
City of Clearwater
Ponding Area No. 14:
Generally following the southern side of CSX Transportation tracks in the area where North Greenwood Avenue intersects with Plaza Street | •24
City of Clearwater
Highland Lake:
Approximately 200 feet southwest of the intersection of Valencia Street and Lake Avenue | •47
Pinellas County (Unincorporated Areas)
Ponding Area No. 16:
Approximately 3,000 feet northwest of intersection of Marilyn Street and Hercules Avenue | •68
City of Clearwater
Ponding Area No. 17:
Approximately 1,500 feet northwest of the intersection of Marilyn Street and Hercules Avenue | •69
City of Clearwater
Ponding Area No. 12:
At the intersection of Palmetto Street and Pennsylvania Avenue | •21
City of Clearwater
City of Clearwater
Maps available for inspection at the City of Clearwater Engineering Department, 100 South Myrtle Avenue, Suite 220, Clearwater, Florida.
City of Largo
Maps available for inspection at the Largo City Hall, 201 Highland Avenue, Largo, Florida.
Pinellas County (Unincorporated Areas)
Maps available for inspection at the Pinellas County Building, 315 Court Street, Clearwater, Florida.
ILLINOIS
Cook County (FEMA Docket No. D-7526)
Addison Creek:
Approximately 360 feet upstream of 21st Street | *621
Approximately 180 feet upstream of Tri-State Tollway | *656
Village of Bellwood, Village of Broadview, Cook County (Unincorporated Areas), Village of Hillside, Village of Maywood, Village of Melrose Park, City of Northlake, Village of Stone Park, Village of Westchester
Village of Bellwood
Maps available for inspection at the Bellwood Village Hall, Building Department, 3200 Washington Boulevard, Bellwood, Illinois.
Village of Broadview
Maps available for inspection at the Broadview Village Hall, 2350 South 25th Avenue, Broadview, Illinois.
Cook County (Unincorporated Areas)
Maps available for inspection at the Cook County Department of Building and Zoning, 69 West Washington Street, Chicago, Illinois.
Village of Hillside
Maps available for inspection at the Hillside Village Hall, 425 Hillside Avenue, Hillside, Illinois.
Village of Maywood
Maps available for inspection at the Maywood Village Hall, Building and Zoning Department, 40 Madison Street, Maywood, Illinois.
Village of Melrose Park
Maps available for inspection at the Melrose Park Village Hall, Building Department, 1000 North 25th Avenue, Melrose Park, Illinois.
City of Northlake
Maps available for inspection at the Northlake City Hall, Building Department, 55 East North Avenue, Northlake, Illinois.
Village of Stone Park
Maps available for inspection at the Stone Park Village Hall, Office of Building Inspections, 1629 North Mannheim Road, Stone Park, Illinois.
Village of Westchester
Maps available for inspection at the Westchester Village Hall, Building Department, 10300 Roosevelt Road, Westchester, Illinois.
NEW HAMPSHIRE
Rockingham County (FEMA Docket No. D-7578)
Exeter River:
Approximately 850 feet northeast of the intersection of Great Oak and Pheasant Run Drive at the corporate limits of the Town of Chester and the Town of Raymond | *165
Town of Chester
Powwow Pond:
North of Boston and Maine Railroad | *119
South of Boston and Maine Railroad | *118
Town of East Kingston
Lamprey River:
Approximately 950 feet downstream of Prescott Road | *164
Approximately 300 feet upstream of Prescott Road | *167
Town of Epping
Piscassic River:
Approximately 0.57 mile downstream of upstream corporate limits | *105
At upstream corporate limits | *108
Town of Exeter
Piscataqua River:
North of State Route 18 (East of Pierce Island) | *9
Town of New Castle
Country Pond:
Entire shoreline within community | *121
Town of Newton
Little River No. 3:
At upstream corporate limits | *103
At downstream corporate limits | *103
Town of Newton
Flatrock Branch:
At confluence with Shadow Lake | *162
Approximately 150 feet downstream of Doiron Road | *163
Town of Salem
Squamscott River:
At downstream side of Boston and Maine Railroad bridge | *7
At downstream corporate limits | *7
Town of Stratham
Lamprey River:
Approximately 1.3 miles upstream of Alternate Route 101 | *217
Approximately 1.77 miles upstream of Alternate Route 101 | *217
Town of Candia
Great Bay/Little Bay:
Entire shoreline within the community | *7
Town of Newington
Piscataqua River:
From the Spaulding Turnpike bridge to the Greenland/Portsmouth corporate limits | *9
Town of Newington
Pickering Brook:
At the Greenland/Portsmouth corporate limits | *27
Approximately 2,300 feet upstream of Greenland/Portsmouth corporate limits | *27
City of Portsmouth
Town of Candia:
Maps available for inspection at the Candia Town Office, 74 High Street, Candia, New Hampshire.
Town of Chester:
Maps available for inspection at the Town of Chester Municipal Office Building, 84 Chester Street, Chester, New Hampshire.
Town of East Kingston:
Maps available for inspection at the East Kingston Town Office, 24 Depot Road, East Kingston, New Hampshire.
Town of Epping:
Maps available for inspection at the Epping Town Hall, 157 Main Street, Epping, New Hampshire.
Town of Exeter:
Maps available for inspection at the Exeter Town Office, 10 Front Street, Exeter, New Hampshire.
Town of Newington:
Maps available for inspection at the Newington Town Office, 205 Nimble Hill Road, Newington, New Hampshire.
Town of Newton:
Maps available for inspection at the Newton Town Hall, Town Hall Road, Newton, New Hampshire.
City of Portsmouth:
Maps available for inspection at the City of Portsmouth Municipal Complex, Planning Department, 3rd Floor, 1 Junkins Avenue, Portsmouth, New Hampshire.
Town of New Castle:
Maps available for inspection at the New Castle Town Office, 49 Main Street, New Castle, New Hampshire.
Town of Salem:
Maps available for inspection at the Salem Town Office, 33 Geremonty Drive, Salem, New Hampshire.
Town of Stratham:
Maps available for inspection at the Stratham Town Office, 10 Bunker Hill Avenue, Stratham, New Hampshire.
WEST VIRGINIA
Cabell County and City of Huntington (FEMA Docket No. D-7598)
Ohio River:
At the downstream county boundary | •550
Approximately 8 miles upstream of confluence of Goose Run | •561
Cabell County (Unincorporated Areas), City of Huntington
Fourpole Creek:
Approximately 200 feet upstream of the Ohio River | •538
Approximately 2,400 feet upstream of Prices Creek Road | •703
Cabell County (Unincorporated Areas), City of Huntington
Indian Fork:
Approximately 1,160 feet upstream of confluence with Mud Creek | •587
Approximately 250 feet upstream of Ridge Run Road | •640
Cabell County (Unincorporated Areas)
Kilgore Creek:
At the confluence with Indian Fork | •587
Approximately 500 feet upstream of the confluence of Little Creek | •611
Cabell County (Unincorporated Areas)
Lee Creek:
At the confluence with Kilgore Creek | •590
Approximately 6,500 feet upstream of Interstate Route 64 | •660
Cabell County (Unincorporated Areas)
Charley Creek:
Approximately 1,820 feet upstream of confluence with Mud Creek | •602
Approximately 2,250 feet downstream of Wolfpen Hollow Road | •615
Cabell County (Unincorporated Areas)
Little Creek:
At the confluence with Kilgore Creek | •610
Approximately 750 feet upstream of the confluence with Kilgore Creek | •611
Cabell County (Unincorporated Areas)
Arlington Boulevard Tributary:
Backwater area along Norwood Road | •613
At the confluence with Guyandotte River | •554
Approximately 150 feet downstream of Arlington Boulevard | •554
Cabell County (Unincorporated Areas)
Grapevine Branch:
At the confluence with Fourpole Creek | •590
Approximately 1,050 feet upstream of the confluence with Fourpole Creek | •590
Cabell County (Unincorporated Areas), City of Huntington
Cabell County (Unincorporated Areas)
Maps available for inspection at the Cabell County Office of Grants, Planning and Permits, Cabell County Courthouse, Room 314, Huntington, West Virginia.
City of Huntington
Maps available for inspection at the City of Huntington Department of Development and Planning, 800 Fifth Street, Room 14, Huntington, West Virginia.

(Catalog of Federal Domestic Assistance No. 83.100, “Flood Insurance”)
Dated: January 28, 2005.
David I. Maurstad,
Acting Director, Mitigation Division, Emergency Preparedness and Response Directorate.

[FR Doc. 05-2122 Filed 2-3-05; 8:45 am]

BILLING CODE 9110-12-P